DEPARTMENT OF TRANSPORTATION

Federal Aviation Administration

Public Notice for Waiver of Aeronautical Land-Use Assurance; Gary/Chicago International Airport; Gary, IN

AGENCY: Federal Aviation Administration, DOT.

ACTION: Notice of intent of waiver with respect to land.

SUMMARY: The Federal Aviation Administration (FAA) is considering a proposal to change a portion of the airport from civilian aeronautical use to military aeronautical use and to authorize the lease of the airport property. The area is a twenty-five acre parcel located in the southwest quadrant of the airport south of Runway 12/30 and west of Runway 2/20. The land is vacant and is used as a stockpile area for various construction materials and was the former site of a Nike missile silo battery. The land had been transferred to the City of Gary in 1947 by Quitclaim Deed from the Reconstruction Finance Corporation as non-surplus property as defined by section 16 of the Federal Airport Act of 1946. Public Law 102-148, dated October 10, 1991 released the land from the section 16 restriction requiring Congressional action for land releases and authorized the FAA to administer land releases. There are no adverse impacts to the airport by allowing the airport to lease the property. The land is not needed for civilian aeronautical use and a Limited Army Aviation Support Facility helicopter base, which will be operated by the Indiana National Guard, will be constructed on the property. A Joint-Use Agreement will be negotiated between the Indiana National Guard and the airport that will address all fees, charges, and assessments for services such as snow removal, fire fighting and fueling. Approval does not constitute a commitment by the FAA to financially assist in the disposal of the subject airport property nor a determination of eligibility for grant-in-aid funding from the FAA. The disposition of proceeds from the lease of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before April 17, 2006.

FOR FURTHER INFORMATION CONTACT: Gregory N. Sweeny, Airports Engineer, Chicago Airports District Office, 2300 East Devon Avenue, Des Plaines, Illinois 60018. Telephone Number (847) 294-7526/Fax Number (847) 294-7046. Documents reflecting this FAA action may be reviewed at this same location or at Gary/Chicago International Airport, Gary, Indiana.

SUPPLEMENTARY INFORMATION: Following is a legal description of the property located in Gary, Lake County, Indiana, and described as follows:

A parcel of land in the east half of section 35, Township 37 North, Range 9 West of the second principal meridian, in the City of Gary, Lake County, Indiana, being a part of those premises now commonly known as the Gary/Chicago International Airport, said parcel being more particularly described as follows: Commencing at a concrete monument at the center of said Section 35, thence South 89°49′11″ East (all bearings in this description are based on the true bearing of North 55°49′59″ West for the center line of Runway 12/30) along the east and west center line of said Section 35 a distance of 71.64 feet to a point; thence North 00°56′07″ East a distance of 42.41 feet to the true point of beginning of the tract herein described; thence continuing North 00°56′07″ East a distance of 545.92 feet to a point; thence North 44°07′06″ East a distance of 375.73 feet to a point in a line which is 600.00 feet distant and parallel with the center line of Runway 12/30 aforesaid; thence South 55°49′59″ East along said parallel line a distance of 860.84 feet to a point; thence South 29°28′52″ East a distance of 349.36 feet to a point which is 625.00 feet distant and parallel with the center of Runway 2/20; thence South 21°11′05″ West along said parallel line a distance of 754.45 feet to a point; thence North 68°45′22″ West a distance of 419.05 feet to a point; thence South 77°38′14″ West a distance of 134.67 feet to a point in a non-tangent circular curve concave to the west and having a radius of 1,061.90 feet and a chord bearing of North 33°05′02″ West for a distance of 659.34 feet; thence northerly and northwesterly along said curve an arc distance of 670.41 feet to the true point of beginning, and containing 25.01 acres, more or less, and subject to all easements and restrictions of record.

Issued in Des Plaines, Illinois on February 27, 2006.
Larry H. Ladenforf,
Acting Manager, Chicago Airports District Office, FAA, Great Lakes Region.

[FR Doc. 06-2489 Filed 3-15-06; 8:45 am]

BILLING CODE 4910-13-M